DEPARTMENT OF TRANSPORTATION

Federal Highway Administration

23 CFR Parts 655 and 940

[FHWA Docket No. FHWA-99-5899]

RIN 2125-AE65

Intelligent Transportation System Architecture and Standards: Delay of Effective Date

AGENCY: Federal Highway Administration (FHWA), DOT.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled Intelligent Transportation System Architecture and Standards, published in the Federal Register on January 8, 2001, 66 FR 1446. The rule concerns Intelligent Transportation System (ITS) projects carried out using funds made available from the Highway Trust Fund. This rule requires regions which have implemented ITS or are planning ITS implementations to develop a regional ITS architecture, based on the National ITS Architecture, to guide their implementation.

EFFECTIVE DATE: The effective date of the Intelligent Transportation System Architecture and Standards rule, published in the Federal Register on January 8, 2001, at 66 FR 1446, is delayed for 60 days, from February 7, 2001, to a new effective date of April 8, 2001.

FOR FURTHER INFORMATION CONTACT: For technical information: Mr. Robert Rupert, Office of Travel Management (HOTM-1), (202) 366-2194 and Mr. Michael Freitas, (202) 366-9292, ITS Joint Program Office (HOIT-1). For legal information: Mr. Wilbert Baccus, Office of the Chief Counsel, (HCC-32), (202) 366-1346, Federal Highway Administration, 400 Seventh Street, SW., Washington, DC 20590-0001. Office hours are from 8 a.m. to 4:30 p.m., e.t., Monday through Friday, except Federal holidays.

SUPPLEMENTARY INFORMATION: To the extent that 5 U.S.C section 553 applies to this action, it is exempt from notice and comment because it constitutes a rule of procedure under 5 U.S.C. section 553(b)(A). Alternatively, the FHWA's implementation of this rule without opportunity for public comment, effective immediately upon publication today in the Federal Register, is based on the good cause exceptions in 5 U.S.C. section 553(b)(B) and 553 (d)(3). Seeking public comment is impracticable, unnecessary, and contrary to the public interest. The temporary 60-day delay in effective date is necessary to give Department officials the opportunity for further review and consideration of the new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Issued on: January 31, 2001.
Anthony R. Kane,
Executive Director.

[FR Doc. 01-3206 Filed 2-2-01; 4:50 pm]

BILLING CODE 4910-22-P